DEPARTMENT OF ENERGY

Federal Energy Regulatory Commission

Sunshine Act Meeting Notice

November 10, 2016.

The following notice of meeting is published pursuant to section 3(a) of the government in the Sunshine Act (Pub. L. 94-409), 5 U.S.C. 552b:

AGENCY HOLDING MEETING: Federal Energy Regulatory Commission, DOE.

DATE AND TIME: November 17, 2016, 10:00 a.m.

PLACE: Room 2C, 888 First Street NE., Washington, DC 20426.

STATUS: OPEN.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://ferc.capitolconnection.org/ using the eLibrary link, or may be examined in the Commission's Public Reference Room.

1032ND—Meeting Regular Meeting
[November 17, 2016 10:00 a.m.]
Item No. | Docket No. | Company
Administrative
A-1 | AD16-1-000 | Agency Administrative Matters.
A-2 | AD16-7-000 | Customer Matters, Reliability, Security and Market Operations.
A-3 | AD07-13-010 | 2016 Report on Enforcement.
A-4 | AD17-3-000 | Presentation on the Commission's Dam Safety Program.
Electric
E-1 | RM16-23-000 | Electric Storage Participation in Markets Operated by Regional Transmission Organizations and Independent System Operators.
| AD16-20-000 | Electric Storage Participation in Regions with Organized Wholesale Electric Markets.
E-2 | RM16-5-000 | Offer Caps in Markets Operated by Regional Transmission Organizations and Independent System Operators.
E-3 | RM16-6-000 | Essential Reliability Services and the Evolving Bulk-Power System—Primary Frequency Response.
E-4 | RM16-15-000 | Regulations Implementing FAST Act Section 61003—Critical Electric Infrastructure Security and Amending Critical Energy Infrastructure Information.
| RM15-25-001 | Availability of Certain North American Electric Reliability Corporation Databases to the Commission.
E-5 | ER16-2528-000 | Midcontinent Independent System Operator, Inc.
E-6 | ER17-144-000 | New York Independent System Operator, Inc.
E-7 | TS16-1-000 | NorthWestern Corporation.
E-8 | TS15-3-000 | City of Rochester, Minnesota Board of Public Utilities.
E-9 | ER16-2437-000 | Alcoa Power Generating Inc.
E-10 | ER13-108-001 | Alcoa Power Generating Inc.
E-11 | EL16-105-000 | Goodyear Tire & Rubber Company v. Entergy Texas, Inc.
E-12 | ER16-453-000 | PJM Interconnection, L.L.C. and Northeast Transmission Development, LLC.
| ER16-453-001
E-13 | ER15-2294-000 | Pacific Gas and Electric Company.
| ER15-2294-002
E-14 | ER05-6-124 | Midwest Independent Transmission System Operator, Inc.
| EL04-135-126 | Midwest Independent Transmission System Operator, Inc. and PJM Interconnection, LLC.
| EL02-111-145
| EL03-212-140 | Ameren Services Company.
E-15 | ER15-2239-000 | NextEra Energy Transmission West, LLC.
| ER15-2239-001
Miscellaneous
M-1 | RM17-5-000 | Regulations Implementing the FOIA Improvement Act of 2016 and Clarifying the FOIA Regulations.
Hydro
H-1 | RM16-19-000 | Annual Charges for Use of Government Lands in Alaska.
H-2 | P-2307-075 | Alaska Electric Light and Power.
| P-12379-051
| P-8221-098 | Alaska Energy Authority.
| P-2170-054 | Chugach Electric Association.
| P-420-088 | Ketchikan Public Utilities.
| P-1922-048
| P-11841-031
| P-2742-037 | Copper Valley Electric Association.
| P-2911-042 | Southeast Alaska Power Agency.
| 3015-018
H-3 | RM17-4-000 | Establishing the Length of License Terms for Hydroelectric Projects.
H-4 | P-2114-279 | Public Utility District No. 2 of Grant County, Washington.
H-5 | P-14754-001 | Rivertec Partners, LLC.
Certificates
C-1 | CP16-18-000 | Magnum Gas Storage, LLC.

Kimberly D. Bose,
Secretary.

A free webcast of this event is available through http://ferc.capitolconnection.org/. Anyone with Internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2016-27625 Filed 11-14-16; 11:15 am]

BILLING CODE 6717-01-P